DEPARTMENT OF AGRICULTURE

Rural Utilities Service

Publication of Depreciation Rates

AGENCY: Rural Utilities Service, USDA.

ACTION: Notice.

SUMMARY: The United States Department of Agriculture (USDA) Rural Utilities Service (RUS) administers rural utilities programs, including the Telecommunications Program. RUS announces the depreciation rates for telecommunications plant for the period ending December 31, 2010.

DATES: These rates are effective immediately and will remain in effect until rates are available for the period ending December 31, 2011.

FOR FURTHER INFORMATION CONTACT: Jonathan P. Claffey, Deputy Assistant Administrator, Telecommunications Program, Rural Utilities Service, STOP 1590—Room 5151, 1400 Independence Avenue SW., Washington, DC 20250-1590. Telephone: (202) 720-9556.

SUPPLEMENTARY INFORMATION: In 7 CFR part 1737, Pre-Loan Policies and Procedures Common to Insured and Guaranteed Telecommunications Loans, § 1737.70(e) explains the depreciation rates that are used by RUS in its feasibility studies. § 1737.70(e)(2) refers to median depreciation rates published by RUS for all borrowers. The following chart provides those rates, compiled by RUS, for the reporting period ending December 31, 2010:

Median Depreciation Rates of Rural Utilities Service Borrowers by Equipment Category for Period Ending December 31, 2010
Telecommunications plant category | Depreciation rate
1. Land and Support Assets:
a. Motor vehicles | 16.00
b. Aircraft | 12.00
c. Special purpose vehicles | 13.20
d. Garage and other work equipment | 10.00
e. Buildings | 3.20
f. Furniture and office equipment | 10.00
g. General purpose computers | 20.00
2. Central Office Switching:
a. Digital | 9.00
b. Analog & Electro-mechanical | 9.66
c. Operator Systems | 8.85
3. Central Office Transmission:
a. Radio Systems | 9.21
b. Circuit equipment | 10.00
4. Information origination/termination:
a. Station apparatus | 11.95
b. Customer premises wiring | 10.00
c. Large private branch exchanges | 11.78
d. Public telephone terminal equipment | 11.00
e. Other terminal equipment | 10.05
5. Cable and wire facilities:
a. Aerial cable—poles | 6.19
b. Aerial cable—metal | 5.80
c. Aerial cable—fiber | 5.10
d. Underground cable—metal | 5.00
e. Underground cable—fiber | 5.00
f. Buried cable—metal | 5.10
g. Buried cable—fiber | 5.00
h. Conduit systems | 3.50
i. Other | 5.50

Dated: November 19, 2011.
James Newby,
Acting Administrator, Rural Utilities Service.

[FR Doc. 2011-30361 Filed 11-23-11; 8:45 am]

BILLING CODE P